NATIONAL AERONAUTICS AND SPACE ADMINISTRATION

[Notice: (13-139)]

NASA Advisory Council; Audit, Finance and Analysis Committee; Meeting

AGENCY: National Aeronautics and Space Administration.

ACTION: Notice of Meeting.

SUMMARY: In accordance with the Federal Advisory Committee Act, Public Law 92-463, as amended, the National Aeronautics and Space Administration announces a meeting of the Audit, Finance and Analysis Committee of the NASA Advisory Council.

DATES: Monday, December 9, 2013, 9:00 a.m.-5:00 p.m., Local Time.

ADDRESSES: NASA Headquarters, Conference Room 8E40, 300 E Street, SW., Washington DC 20546.

FOR FURTHER INFORMATION CONTACT: Ms. Angela Herring, Office of the Chief Financial Officer, NASA Headquarters, Washington, DC 20546. Phone: 202-358-1698.

SUPPLEMENTARY INFORMATION: The agenda for the meeting includes briefings on the following topics:

• Finance Update

• Budget Update

• NASA Strategic Planning and Performance

• Conference Reporting Update

• System Division Initiatives Update

• NASA's Most Serious Top Management Challenges

• NASA Shared Services Center Brief

The meeting will be open to the public up to the seating capacity of the room. Visitors will need to show a valid picture identification such as a driver's license to enter the NASA Headquarters building (West Lobby—Visitor Control Center), and must state that they are attending the Audit, Finance, and Analysis Committee meeting in room 8E40 before receiving an access badge. All non-U.S. citizens must fax a copy of their passport, and print or type their name, current address, citizenship, company affiliation (if applicable) to include address, telephone number, and their title, place of birth, date of birth, U.S. visa information to include type, number, and expiration date, U.S. social Security Number (if applicable), and place and date of entry into the U.S., fax to Angela Herring, Executive Secretary, Audit, Finance, and Analysis Committee, FAX (202) 358-4336, no later than December 5, 2013. To expedite admittance, attendees with U.S. citizenship and Permanent Residents (green card) holders can provide identifying information in advance by contacting Angela Herring at (202) 358-1698, or fax: (202) 358-4336.

It is imperative that the meeting be held on this date to accommodate the scheduling priorities of the key participants.

Note: In accordance with Section 102-3.150(b) of Part II General Services Administration (GSA) Federal Advisory Committee Management: Final Rule (41 CFR Parts 101-6 and 102-3), dated Thursday, July 19, 2001, this meeting is being held with less than 15 days' notice due to exceptional circumstances and scheduling constraints associated with the decision on November 25, 2013 to reorganize the NASA Advisory Council.

Patricia D. Rausch,
Advisory Committee Management Officer, National Aeronautics and Space Administration.

[FR Doc. 2013-28891 Filed 12-2-13; 8:45 am]

BILLING CODE 7510-13-P